DEPARTMENT OF TRANSPORTATION

Pipeline and Hazardous Materials Safety Administration

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 16, 2012.

ADDRESSES: Address Comments To: Record Center, Pipeline and Hazardous Materials Safety Administration U.S. Department of Transportation Washington, DC 20590. Comments should refer to the application number and be submitted in triplicate. If confirmation of receipt of comments is desired, include a self-addressed stamped postcard showing the special permit number.

FOR FURTHER INFORMATION CONTACT:

Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on March 8, 2012.
Donald Burger,
Chief, General Approvals and Permits.

Applicant No. | Docket No. | Applicant | Regulation(s) affected | Nature of special permits thereof
New Special Permits
15547-N |  | Southern California Edison (SCE) Chino, CA | 49 CFR 172.101 Column (9B), 172.204(c)(3), 173.27(b)(2) and 175.30(a)(1) in that the explosives are forbidden by cargo aircraft | To authorize the transportation in commerce of certain forbidden explosives in sling load operations in remote areas of the US without being subject to hazard communication requirements, quantity limitations, and certain loading and stowage requirements. (mode 4)
15559-N |  | Colorado Mountain Helicopters, LLC dba New Air Helicopters Logan, UT | 49 CFR 49 CFR 172.101 Column (9B), 172.200, 172.204 (c)(3), 172.301 (c), 173.27 (b)(2), 175.30 (a)(1), 175.33, 175.75, 178 | To authorize the transportation in commerce of certain forbidden explosives in sling load operations in remote areas of the US without being subject to hazard communication requirements, quantity limitations, and certain loading and stowage requirements. (mode 4)
15566-N |  | Lake and Peninsula Airlines, Inc. Port Alsworth, AK | 49 CFR 173.302(f)(3) and (f)(4) | To authorize the transportation in commerce of certain cylinders of compressed oxygen, when no other practical means of transportation exist, without their outer packaging being capable of passing the Flame Penetration and Resistance Test and the Thermal Resistance Test. (modes 4, 5)
15568-N |  | ATK Launch Systems Corinne, UT | 49 CFR 172.101(b) | To authorize the transportation in commerce soils containing solid explosive compounds (not greater than 3%) in bulk. (mode 1)
15569-N |  | Vexxel Composites, LLC Brigham City, UT | 49 CFR 173.302a(a)(1), 175.3, and 180.205 | To authorize the manufacture, marking, sale, and use of non-DOT specification fully-wrapped carbon fiber reinforced seamless stainless steel lined cylinders that meets all requirements of ISO 11119-2 for use in transporting 2.2 materials. (modes 1, 2, 3, 4, 5)
15573-N |  | Air Products and Chemicals, Inc. Allentown, PA | 49 CFR 173.309(a) | To authorize the transportation in commerce of a non-specification cylinder EN1964. (mode 1)
15577-N |  | Olin Corporation Oxford, MS | 49 CFR 172.101 column 8, 173.62 (b), 173.60(b)(8), 172.300 (d) | To authorize the transportation in commerce of certain Division 1.4 in non-DOT specification packagings without labels and markings to a distance not to exceed 200 yards by motor vehicle, subject to the limitations and special requirements specified herein. (mode 1)
15580-N |  | Wisconsin Central Ltd. Homewood, MN | 49 CFR 174.85 | To authorize the positioning of placarded cars without a buffer car. (mode 2)

[FR Doc. 2012-6062 Filed 3-14-12; 8:45 am]

BILLING CODE 4909-60-P